DEPARTMENT OF ENERGY

Federal Energy Regulatory Commission

Combined Notice of Filings #1

Take notice that the Commission received the following electric corporate filings:

Docket Numbers: EC17-103-000.

Applicants: Elgin Energy Center, LLC, Rocky Road Power, LLC, Tilton Energy LLC.

Description: Supplement to April 12, 2017 Application of Elgin Energy Center, LLC, et al. for Approval Pursuant to Section 203 of the Federal Power Act.

Filed Date: 4/24/17.

Accession Number: 20170424-5214.

Comments Due: 5 p.m. ET 5/4/17.

Docket Numbers: EC17-108-000.

Applicants: AltaGas Ltd., WGL Energy Services, Inc.

Description: Joint Application of AltaGas Ltd. and WGL Energy Services, Inc. for Authorization of Disposition of Jurisdictional Assets and Purchase of Securities Under Section 203 of the Federal Power Act.

Filed Date: 4/24/17.

Accession Number: 20170424-5295.

Comments Due: 5 p.m. ET 5/15/17.

Take notice that the Commission received the following electric rate filings:

Docket Numbers: ER10-3285-001; ER10-3177-001; ER10-3181-001.

Applicants: UGI Development Company, UGI Energy Services, LLC, UGI Utilities, Inc., UGI Utilities Inc.

Description: Supplement to December 19, 2016 Updated Triennial Market Power Analysis for Northeast region of the UGI MBR Companies.

Filed Date: 4/25/17.

Accession Number: 20170425-5121.

Comments Due: 5 p.m. ET 6/26/17.

Docket Numbers: ER16-1967-002.

Applicants: PJM Interconnection, L.L.C.

Description: Compliance filing: Compliance filing per Order issued 1/19/2017 in Docket Nos. EL13-88-001 et al to be effective 8/22/2016.

Filed Date: 4/24/17.

Accession Number: 20170424-5285.

Comments Due: 5 p.m. ET 5/15/17.

Docket Numbers: ER16-1969-003.

Applicants: Midcontinent Independent System Operator, Inc.

Description: Compliance filing: 2017-04-24_Addtl compliance filing to address NIPSCO Complaint Order to be effective 8/22/2016.

Filed Date: 4/24/17.

Accession Number: 20170424-5286.

Comments Due: 5 p.m. ET 5/15/17.

Docket Numbers: ER17-1465-000.

Applicants: PJM Interconnection, L.L.C.

Description: § 205(d) Rate Filing: Third Revised SA No. 974, Queue No. AC1-064 to be effective 3/24/2017.

Filed Date: 4/24/17.

Accession Number: 20170424-5232.

Comments Due: 5 p.m. ET 5/15/17.

Docket Numbers: ER17-1466-000.

Applicants: PacifiCorp.

Description: § 205(d) Rate Filing: Tri-State NITSA Rev 8 to be effective 4/1/2017.

Filed Date: 4/24/17.

Accession Number: 20170424-5280.

Comments Due: 5 p.m. ET 5/15/17.

Docket Numbers: ER17-1467-000.

Applicants: Oklahoma Gas and Electric Company.

Description: § 205(d) Rate Filing: Section 205 Filing to Update Depreciation Rates in Transmission Formula Rate to be effective 7/1/2016.

Filed Date: 4/25/17.

Accession Number: 20170425-5112.

Comments Due: 5 p.m. ET 5/16/17.

Docket Numbers: ER17-1468-000.

Applicants: Unitil Power Corp.

Description: Unitil Power Corp submits Statement of all billing transactions under the Amended Unitil System Agreement for the period January 1, 2016 to December 31, 2016.

Filed Date: 4/21/17.

Accession Number: 20170421-5042.

Comments Due: 5 p.m. ET 5/12/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 25, 2017.
Kimberly D. Bose,
Secretary.

[FR Doc. 2017-08795 Filed 5-1-17; 8:45 am]

BILLING CODE 6717-01-P